DEPARTMENT OF AGRICULTURE

Submission for OMB Review; Comments Requested; Correction

March 24, 2021.

The Department of Agriculture will submit the following information collection requirement(s) to OMB for review and clearance under the Paperwork Reduction Act of 1995, on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

DATES: Comments regarding these information collections are best assured of having their full effect if received by April 28, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Reporting and Recordkeeping Requirements (United States Grain Standards Act and Agricultural Marketing Act of 1946).

OMB Control Number: 0580-0309.

Summary of Collection: Congress enacted the United States Grain Standards Acts (USGSA) and the Agricultural Marketing Act (AMA) to facilitate the marketing of grain, oilseeds, pulses, rice, and related commodities. These statutes establish standards and terms that accurately and consistently measure the quality of grain and related products, provide for uniform official inspection and weighing, provide regulatory and official service responsibilities, and furnish the framework for commodity quality improvement incentives to both domestic and foreign buyers. The Department of Agriculture (USDA) Agriculture Marketing Service's (AMS) Federal Grain Inspection Service (FGIS) establishes policies, guidelines, and regulations to carry out the objectives of the USGSA and the AMA. The USGSA, AMA, and related regulations can be found at the AMS website.

The USGSA, with few exceptions, requires that grain sold for export and grain sold by grade be officially certified. Official services are also provided, upon request, for grain sold domestically. The AMA authorizes similar inspection and weighing services, upon request, for rice, pulses, flour, corn meal, and certain other agricultural products. Conversely, the regulations issued under the USGSA and AMA require that FGIS collect specific information and keep certain records necessary to carry out requests for official services. Applicants for service must specify the kind and level of service desired, the identification of the product, the location, the amount, and other pertinent information in order that official personnel can efficiently respond to their needs.

Official services under the USGSA are provided by FGIS field offices and official agencies, which may be classified as delegated or designated agencies. Delegated agencies are State agencies delegated authority under the USGSA to provide official inspection and/or weighing services at export port locations in the State. Designated agencies are State or local governmental agencies, or private agencies designated under the USGSA to provide official inspection and/or weighing services at locations other than export port locations. Official agencies provide services on behalf of FGIS and must comply with all regulations, procedures, and instructions in accordance with provisions established under the USGSA. FGIS oversees the performance of these agencies and provides technical guidance as needed.

Official services under the AMA are performed, upon request, on a fee basis for domestic and export shipments either by FGIS employees, individual contractors, or cooperators. Contractors are persons who enter into a contract with FGIS to perform specified inspection services. Cooperators are agencies or departments of the Federal government which have an interagency agreement or State agencies which have a reimbursable agreement with FGIS.

Need and Use of the Information: This information is used by USDA employees and State or private agencies authorized to perform official services under the USGSA or AMA.

USGSA and the AMA regulations require that producers, elevators operators, and/or merchandisers who obtain official inspection, testing, and weighing services keep records pertaining to the lot of grain or related commodity for a period of 3 years. In addition, the regulations issued under the USGSA and the AMA require that FGIS, State, and private personnel who provide official inspection, testing, and weighing services keep such records pertaining to the lot of grain or related commodity for a period of 5 years. This information is used for the purpose of investigating alleged violations of the USGSA and AMA.

Data is used for statistical purposes and the generation of reports within the agency and is shared within other USDA and government agencies as well as external stakeholders for statistical analysis.

Description of Respondents: Business or other for-profit.

Number of Respondents: 8,666.

Frequency of Responses: Recordkeeping; Third party disclosure; Reporting: On occasion; Semi-annually; Annually.

Total Burden Hours: 161,614.

Levi S. Harrell,
Departmental Information Collection Clearance Officer.

[FR Doc. 2021-06384 Filed 3-26-21; 8:45 am]

BILLING CODE 3410-02-P